DEPARTMENT OF TRANSPORTATION

Federal Highway Administration

Limited-Scope Supplemental Environmental Impact Statement: City of Burlington, Chittenden County, Vermont

AGENCY: Federal Highway Administration (FHWA), DOT.

ACTION: Notice of intent to prepare a Limited-Scope Supplemental Environmental Impact Statement.

SUMMARY: The FHWA is issuing this notice to advise the public that a Limited-Scope Supplemental Environmental Impact Statement will be prepared for the proposed Southern Connector/Champlain Parkway project in the City of Burlington, Chittenden County, Vermont.

FOR FURTHER INFORMATION CONTACT: Rob Sikora, Environmental Program Manager, Federal Highway Administration, 87 State Street, Room 216, Montpelier, Vermont 05602. Telephone: (802) 828-4573.

SUPPLEMENTARY INFORMATION: The FHWA, in cooperation with the Vermont Agency of Transportation (VTrans) and the City of Burlington, will prepare a Limited-Scope Supplemental Environmental Impact Statement (EIS) for the Burlington Southern Connector/Champlain Parkway between Interstate 189 and Main Street in Burlington, Vermont.

The Southern Connector/Champlain Parkway project has a long history with National Environmental Policy Act (NEPA) reviews dating back to the 1970's. The most recent NEPA document for the project was a Final Supplemental EIS approved by FHWA on September 22, 2009 and a Record of Decision (ROD) issued on January 13, 2010 identifying the Selected Alternative and the reasons for its selection. On October 11, 2019, the FHWA published a notice to rescind the ROD in order to re-evaluate the project's impacts to low-income and minority populations in accordance with 23 CFR 771.129. Based on the environmental re-evaluation, FHWA has determined that a Limited-Scope Supplemental EIS should be prepared for the project to address changes subsequent to 2010 in FHWA guidance and methodology for performing environmental justice analyses, updated demographic information contained in the latest available census data, and to provide additional opportunities for meaningful public involvement.

The Supplemental EIS will be limited in the scope of issues, and only assess impacts to low-income and minority populations. Based on the Executive Order 12898 Federal Actions to Address Environmental Justice in Minority Populations and Low-Income Populations, and FHWA's “Guidance on Environmental Justice and NEPA,” it is FHWA's policy to identify and address any disproportionately high and adverse effects of FHWA actions on the health or environment of low-income and minority populations to the greatest extent practicable and permitted by law. The Supplemental EIS review will also address a limited portion of the project along the Pine Street section of the Selected Alternative, between Maple Street and Main Street.

Public involvement is a critical component of the National Environmental Policy Act (NEPA) review and Federal-aid highway project development process. A Draft Limited-Scope Supplemental EIS will be made available for review and comment by Federal and state resource agencies and the public. A public hearing will be held at an accessible location in Burlington at the time the document is made available. In addition to the public hearing, and as needed during the project's NEPA review, FHWA will work with VTrans and the City of Burlington to plan, organize and provide public involvement opportunities and project status updates through the project website, local media, and a project open house. Public notice will be given of the time and place of public meetings and hearings through local newspapers and the project website at http://champlainparkway.com/. No formal scoping meeting is planned at this time. Following approval of the Draft Limited-Scope Supplemental EIS, FHWA plans to issue a combined Final Limited-Scope Supplemental EIS/ROD.

(Catalog of Federal Domestic Assistance Program Number 20.205, Highway Planning and Construction. The regulations implementing Executive Order 12372 regarding intergovernmental consultation on Federal programs and activities apply to this program.)

Issued on: January 16, 2020.
Matthew R. Hake,
Division Administrator, Montpelier, Vermont.

[FR Doc. 2020-01333 Filed 1-24-20; 8:45 am]

BILLING CODE 4910-22-P